DEPARTMENT OF ENERGY

Federal Energy Regulatory Commission

Combined Notice of Filings #1

Take notice that the Commission received the following electric corporate filings:

Docket Numbers: EC12-120-000.

Applicants: Pacific Wind, LLC, Pacific Wind Lessee, LLC.

Description: Application for Approval under Section 203 of the Federal Power Act and Requests for Expedited Consideration and Confidential Treatment of Pacific Wind, LLC, and Pacific Wind Lessee, LLC.

Filed Date: 7/16/12.

Accession Number: 20120716-5156.

Comments Due: 5 p.m. ET 8/6/12.

Take notice that the Commission received the following electric rate filings:

Docket Numbers: ER10-2460-001; ER10-2461-001; ER12-682-002; ER10-2463-001; ER11-2201-005; ER12-1311-001; ER10-2466-002; ER11-4029-001.

Applicants: Evergreen Wind Power, LLC, Canandaigua Power Partners, LLC, Evergreen Wind Power III, LLC, Stetson Wind II, LLC, Vermont Wind, LLC, Stetson Holdings, LLC, Erie Wind, LLC, Canandaigua Power Partners II, LLC.

Description: Notice of Change in Status of Canandaigua Power Partners, LLC, et al.

Filed Date: 7/16/12.

Accession Number: 20120716-5158.

Comments Due: 5 p.m. ET 8/6/12.

Docket Numbers: ER11-4267-001; ER11-4270-001; ER11-4269-001; ER11-4268-001; ER11-113-001; ER10-2682-001.

Applicants: Algonquin Northern Maine Gen Co., Algonquin Tinker Gen Co., Algonquin Energy Services Inc., Granite State Electric Company, Sandy Ridge Wind, LLC, Algonquin Windsor Locks LLC.

Description: Notice of Change in Status of Algonquin Energy Services Inc., et al.

Filed Date: 7/16/12.

Accession Number: 20120716-5149.

Comments Due: 5 p.m. ET 8/6/12.

Docket Numbers: ER12-2245-000.

Applicants: California Independent System Operator Corporation.

Description: 2012-07-16 CAISO CRR Enhancement and Clarification Amendment to be effective 9/15/2012.

Filed Date: 7/16/12.

Accession Number: 20120716-5121.

Comments Due: 5 p.m. ET 8/6/12.

Docket Numbers: ER12-2246-000.

Applicants: New England Power Company.

Description: Notice of Effective Date of Service Agreement No. 6 to be effective 7/3/2012.

Filed Date: 7/16/12.

Accession Number: 20120716-5128.

Comments Due: 5 p.m. ET 8/6/12.

Docket Numbers: ER12-2247-000.

Applicants: Midwest Independent Transmission System Operator, Inc.

Description: SA 2430 TVA-IPL FCA F098 7-16-2012 to be effective 7/17/2012.

Filed Date: 7/16/12.

Accession Number: 20120716-5132.

Comments Due: 5 p.m. ET 8/6/12.

Docket Numbers: ER12-2248-000.

Applicants: Idaho Power Company.

Description: Idaho Power Company submits tariff filing per 35.13(a)(2)(iii): OATT 2012 Depreciation Update to be effective 6/1/2012.

Filed Date: 7/16/12.

Accession Number: 20120716-5137.

Comments Due: 5 p.m. ET 8/6/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2012.
Nathaniel J. Davis, Sr.,
Deputy Secretary.

[FR Doc. 2012-18010 Filed 7-23-12; 8:45 am]

BILLING CODE 6717-01-P